SECURITIES AND EXCHANGE COMMISSION

[SEC File No. CF 270-291, OMB Control No. 3235-0328]

Proposed Collection; Comment Request

Upon Written Request, Copies Available From: Securities and Exchange Commission, Office of FOIA Services, 100 F Street NE, Washington, DC 20549-2736

Extension:

Form ID

Notice is hereby given that, pursuant to the Paperwork Reduction Act of 1995 (44 U.S.C. 3501 et seq.) (the “Paperwork Reduction Act”), the Securities and Exchange Commission (“Commission”) is soliciting comments on the collection of information summarized below. The Commission plans to submit this existing collection of information to the Office of Management and Budget for extension and revisions.

Form ID (OMB Control No. 3235-0328) must be completed and filed with the Commission by all individuals, companies, and other organizations who seek access to file electronically on the Commission's Electronic Data Gathering, Analysis, and Retrieval system (“EDGAR”). Those seeking access to file on EDGAR typically include those who are required to make certain disclosures pursuant to the federal securities laws. The information provided on Form ID is an essential part of the security of EDGAR. Form ID is not a public document because it is used solely for the purpose of screening applicants and granting access to EDGAR. Form ID must be submitted whenever an applicant seeks an EDGAR identification number (Central Index Key or CIK) and/or access codes to file on EDGAR. The Commission may consider potential technical changes to the EDGAR filer access and filer account management processes (“potential access changes”) that include the addition of individual user account credentials as well as a filer management tool on EDGAR through which filers would manage their EDGAR accounts. If the potential access changes are implemented, the Commission anticipates that it would adopt amendments to certain Commission rules and forms to reflect the potential access changes, including Form ID. The potential access changes would include a filer designating on Form ID which of its users would act as filer administrator(s) to manage the filer's EDGAR account, analogous to the contact person listed on Form ID who currently receives access codes. The potential access changes would also include additional data fields on Form ID related to authorized individuals.¹

¹ An “authorized individual” for purposes of Form ID notarization process includes, for example, the Chief Executive Officer, Chief Financial Officer, partner, corporate secretary, officer, director, or treasurer of a company filer; or for individual filers, the individual filer or a person with a power of attorney from the individual filer. See EDGAR Filer Manual, Volume I, at Section 3.

Separately, the Commission may consider potential amendments to Form ID that would result in a more uniform and secure process for EDGAR access by requiring applicants that already have a CIK and no longer have access to EDGAR to apply for access by submitting a new Form ID, rather than by submitting a manual passphrase update request, as they do currently.² As part of their Form ID application, such applicants would continue to provide additional documentation as currently required by the EDGAR Filer Manual for manual passphrase update requests.³

² The manual passphrase update request is submitted by filers who do not possess access codes for their existing EDGAR accounts when the contact email address on their existing account is not accurate. (If the contact email address were accurate, they would be able to receive a security token to allow them to regain access without engaging in the manual passphrase update request process.)

³ See EDGAR Filer Manual, Volume I, at Section 4. See also Adoption of Updated EDGAR Filer Manual, Release No. 33-10948 (Jun. 21, 2021) [86 FR 40308 (Jul. 28, 2021)].

For purposes of the Paperwork Reduction Act, we currently estimate that there are 48,493 Form ID filings annually and that it takes approximately 0.15 hours per response to prepare for a total of 7,274 annual burden hours. The current burden includes the number of Form ID filings for filers without CIKs (48,089 filings) and filers with CIKs who have not filed electronically on EDGAR (404 filings).⁴ Filers are responsible for 100% of the total burden hours.

⁴ 48,089 filings for users without CIKs + 404 filings for filers with CIKs who have not yet filed electronically on EDGAR = 48,493 filings.

If the potential access changes and potential Form ID amendments become effective, for purposes of the Paperwork Reduction Act, we estimate that the number of Form ID filings would increase approximately by 7,284 annually ⁵ and that the number of hours to prepare Form ID would increase by 0.15 hours. The current approved estimate of the annual number of Form ID filings for filers without CIKs (48,089 filings) and filers with CIKs who have not filed electronically on EDGAR (404 filings) would stay the same.

⁵ We base this estimate on the average annual number of filings from filers with CIKs who submitted manual passphrase update requests for the past three federal fiscal years. ((7,004 filings per year + 6,871 filings per year + 7,978 filings per year)/3 years) = average of 7,284 filings per year.

Thus, for purposes of the Paperwork Reduction Act, the estimated total number of annual Form ID filings would increase from 48,493 filings to 55,777 filings.⁶ The estimate of 0.15 hours per response would increase to 0.30 hours per response. The estimated total annual burden would increase from 7,274 hours to 16,734 hours.⁷ The estimate includes the number of filers without CIKs, filers with CIKs who have not filed electronically on EDGAR, and filers with CIKs who are seeking to reaccess EDGAR. The estimate that the filers are responsible for 100% of the total burden hours would stay the same.

⁶ 48,493 filings + 7,284 filings = 55,777 filings.

⁷ 55,777 filings × 0.30 hours/filing = 16,734 hours (rounded up).

In relation to the potential access changes described above, the Commission may consider amending Form ID to make technical modifications and clarifications. We do not believe that these technical modifications and clarifications to Form ID would make any substantive modifications to any existing collection of information requirements or impose any new substantive recordkeeping or information collection requirements within the meaning of the Paperwork Reduction Act.

The estimate of average burden hours is made solely for the purposes of the Paperwork Reduction Act. The estimate is not derived from a comprehensive or representative survey or study of the costs of Commission rules. Complying with this collection of information requirement is necessary to obtain the benefit of relying on Form ID. An agency may not conduct or sponsor, and a person is not required to respond to, a collection of information unless it displays a currently valid control number.

Written comments are invited on: (i) Whether this proposed collection of information is necessary for the proper performance of the functions of the agency, including whether the information will have practical utility; (ii) the accuracy of the agency's estimate of the burden imposed by the collection of information; (iii) ways to enhance the quality, utility, and clarity of the information collected; and (iv) ways to minimize the burden of the collection of information on respondents, including through the use of automated collection techniques or other forms of information technology. Consideration will be given to comments and suggestions submitted in writing within 60 days of this publication.

Please direct your written comments to David Bottom, Director/Chief Information Officer, Securities and Exchange Commission, c/o Cynthia Roscoe, 100 F Street NE, Washington, DC 20549 or send an email to: PRA_Mailbox@sec.gov.

Dated: October 6, 2021.
J. Matthew DeLesDernier,
Assistant Secretary.

[FR Doc. 2021-22136 Filed 10-8-21; 8:45 am]

BILLING CODE 8011-01-P